COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products to the Procurement List that will be furnished by nonprofit agencies employing persons who are blind or have other severe disabilities, and deletes services from the Procurement List previously furnished by such agencies.

DATES: Date added to and deleted from the Procurement List: April 5, 2020.

ADDRESSES: Committee for Purchase From People Who Are Blind or Severely Disabled, 1401 S. Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

On 1/31/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSNs—Product Names

MR 11091—Bag, Laminated, Large, Easter Design 1

MR 11092—Bag, Laminated, Large, Easter Design 2

MR 11093—Bag, Tote, Reusable, Collapsible, Easter

MR 11094—Bag, Reusable, Laminated Gift Size, Easter Design 1

MR 11095—Bag, Reusable, Laminated Gift Size, Easter Design 2

Mandatory Source of Supply: West Texas Lighthouse for the Blind, San Angelo, TX

Contracting Activity: Military Resale-Defense Commissary Agency

Deletions

On 1/31/2020, the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Janitorial/Custodial

Mandatory for: Veterans Affairs Medical Center: Hunter Holmes McGuire, Richmond, VA

Mandatory Source of Supply: Goodwill Services, Inc., Richmond, VA

Contracting Activity: VETERANS AFFAIRS, DEPARTMENT OF, NAC

Service Type: Mailroom Operation

Mandatory for: Directorate of Human Resources, Fort Knox, KY

Mandatory Source of Supply: Employment Source, Inc., Fayetteville, NC

Contracting Activity: DEPT OF THE ARMY, W6QM MICC-FT KNOX

Service Type: Janitorial/Grounds Maintenance

Mandatory for: Department of Agriculture: U.S. Horticultural Research Laboratory, Fort Pierce, FL

Mandatory Source of Supply: Brevard Achievement Center, Inc., Rockledge, FL

Contracting Activity: AGRICULTURAL RESEARCH SERVICE, USDA ARS SAA 4384

Service Type: Janitorial/Elevator Operator

Mandatory for: Southeast Federal Center: Building 205, Washington, DC

Mandatory Source of Supply: Davis Memorial Goodwill Industries, Washington, DC

Contracting Activity: GENERAL SERVICES ADMINISTRATION, FPDS AGENCY COORDINATOR

Service Type: Janitorial/Custodial

Mandatory for: U.S. Federal Building and Post Office: 425 Juliana Street, Parkersburg, WV

Mandatory Source of Supply: SW Resources, Inc., Parkersburg, WV

Contracting Activity: PUBLIC BUILDINGS SERVICE, GSA/PBS/R03 NORTH SERVICE CENTER

Service Type: Administrative Services

Mandatory for: GSA, New York: Federal Supply Service, 26 Federal Plaza, New York, NY

Mandatory Source of Supply: The Corporate Source, Inc., Garden City, NY

Contracting Activity: PUBLIC BUILDINGS SERVICE, GSA PBS R2 ACQUISITION MANAGEMENT DIVISION

Service Type: Library Services

Mandatory for: Building 405, Shaw AFB, SC

Contracting Activity: DEPT OF THE AIR FORCE, FA4803 20 CONS LGCA

Service Type: Janitorial/Custodial

Mandatory for: Peace Bridge Complex, Buffalo, NY

Mandatory Source of Supply: Suburban Adult Services, Inc., Elma, NY

Contracting Activity: GENERAL SERVICES ADMINISTRATION, FPDS AGENCY COORDINATOR

Service Type: Virtual Warehouse Operation

Mandatory for: Department of Transportation: Ardmore East Business Center, Landover, MD

Mandatory Source of Supply: ServiceSource, Inc., Oakton, VA

Contracting Activity: TRANSPORTATION, DEPARTMENT OF, DEPT OF TRANS

Service Type: Moving Services

Mandatory for: Department of the Interior, Washington, DC

Mandatory Source of Supply: Anchor Mental Health Association, Washington, DC

Contracting Activity: OFFICE OF POLICY, MANAGEMENT, AND BUDGET, NBC ACQUISITION SERVICES DIVISION

Service Type: Laundry Service

Mandatory for: Naval Air Station, Patuxent River, MD

Mandatory Source of Supply: Rappahannock Goodwill Industries, Inc., Fredericksburg, VA

Contracting Activity: DEPT OF THE NAVY, U S FLEET FORCES COMMAND

Service Type: Grounds Maintenance

Mandatory for: San Juan Customhouse, #1 La Puntilla Street, San Juan, PR

Mandatory Source of Supply: The Corporate Source, Inc., Garden City, NY

Contracting Activity: BUREAU OF CUSTOMS AND BORDER PROTECTION, NATIONAL ACQUISITION CENTER

Service Type: Janitorial/Custodial

Mandatory for: VA Central Iowa Health Care System: Day Care Center, Des Moines, IA

Mandatory Source of Supply: Goodwill Solutions, Inc., Johnston, IA

Contracting Activity: VETERANS AFFAIRS, DEPARTMENT OF, NAC

Patricia Briscoe,
Deputy Director, Business Operations (Pricing and Information Management).

[FR Doc. 2020-04609 Filed 3-5-20; 8:45 am]

BILLING CODE 6353-01-P